DEPARTMENT OF STATE

[Public Notice 3837]

Shipping Coordinating Committee; Notice of Meeting

The Shipping Coordinating Committee will conduct an open meeting at 9:30 AM on Thursday, March 14, 2002. This meeting will be held in room 3246A at the Department of Transportation Headquarters Building, 400 Seventh Street, SW., Washington, DC 20950. The purpose of this meeting is to review the outcome of the Sixth Session of the International Maritime Organization (IMO) Subcommittee on Radiocommunications and Search and Rescue, which was held the week of February 18-22, 2002, at the IMO headquarters in London, England.

Further information, including the meeting agenda, the meeting room number, and input papers, can be obtained from the Coast Guard Navigation Information Center Internet World Wide Web by entering: “http://www.navcen.uscg.gov/marcomms”.

Members of the public may attend this meeting up to the seating capacity of the room. Interested persons may seek information by writing: Mr. Russell S. Levin, U.S. Coast Guard Headquarters, Commandant (G-SCT-2), Room 6509, 2100 Second Street, SW., Washington, DC 20593-0001, by calling: (202) 267-1389, or by sending Internet electronic mail to rlevin@comdt.uscg.mil.

Dated: January 17, 2002.
Stephen Miller,
Executive Secretary, Shipping Coordinating Committee, Department of State.

[FR Doc. 02-2162 Filed 1-28-02; 8:45 am]

BILLING CODE 4710-07-P